DEPARTMENT OF DEFENSE

Department of the Navy

32 CFR Part 706

Certifications and Exemptions Under the International Regulations for Preventing Collisions at Sea, 1972

AGENCY: Department of the Navy, DoD.

ACTION: Final rule; correcting amendment.

SUMMARY: In the Federal Register of April 21, 2011, the Department of the Navy (DoN) published a final rule concerning certifications and exemptions under the International Regulations for Preventing Collisions at Sea, 1972 (72 COLREGS). That document contained incorrect information concerning side lights arc of visibility; rule 21(b). This correcting amendment corrects that information.

DATES: Effective Date: May 16, 2011.

FOR FURTHER INFORMATION CONTACT: Lieutenant Jaewon Choi, JAGC, U.S. Navy, Admiralty Attorney, (Admiralty and Maritime Law), Office of the Judge Advocate General, Department of the Navy, 1322 Patterson Ave., SE, Suite 3000, Washington Navy Yard, DC 20374-5066, telephone number: 202-685-5040.

SUPPLEMENTARY INFORMATION: Pursuant to the authority granted in 33 U.S.C. 1605, the DoN amends 32 CFR Part 706.

This amendment provides notice that the DAJAG (Admiralty and Maritime Law), under authority delegated by the Secretary of the Navy, has certified that USS MICHIGAN (SSBN 727) and USS Georgia (SSBN 729) are vessels of the Navy which, due to their special construction and purpose, cannot fully comply with specific provisions of 72 COLREGS without interfering with their special function as naval ships. The vessels have been converted from SSBN's to SSGN's and this amendment will edit the classification of the vessels to accurately reflect their new designation as SSGN's. This amendment does not change the vessels' previously noted deviations from 72 COLREGS. The DAJAG (Admiralty and Maritime Law) has also certified that the lights involved are located in closest possible compliance with the applicable 72 COLREGS requirements.

Moreover, it has been determined, in accordance with 32 CFR parts 296 and 701, that publication of this amendment for public comment prior to adoption is impracticable, unnecessary, and contrary to public interest since it is based on previous and unchanged technical findings that the placement of lights on these vessels in a manner differently from that prescribed herein will adversely affect the vessel's ability to perform its military functions. Furthermore, this amendment merely changes the classification of these vessels and does not reflect any changes to the placement of lights on any of these vessels.

List of Subjects in 32 CFR Part 706

Marine safety, Navigation (water), and Vessels.

For the reasons set forth in the preamble, amend part 706 of title 32 of the CFR as follows:

PART 706—CERTIFICATIONS AND EXEMPTIONS UNDER THE INTERNATIONAL REGULATIONS FOR PREVENTING COLLISIONS AT SEA, 1972

1. The authority citation for part 706 continues to read as follow:

Authority: 33 U.S.C. 1605.

2. Section 706.2 is amended in Table Three, by revising the entries for USS MICHIGAN (SSGN 727) and USS GEORGIA (SSGN 729), to read as follows:

§ 706.2 Certifications of the Secretary of the Navy under Executive Order 11964 and 33 U.S.C. 1605.

* * * * *

Table Three
Vessel | Number | Masthead lights arc of visibility; rule 21(a) | Side lights arc of visibility; rule 21(b) | Stern light arc of visibility; rule 21(c) | Side lights distance inboard of ship's sides in meters: Section 3(b) annex 1 | Stern light distance forward of stern in meters; rule 21(c) | Forward anchor light, height above hull in meters; Section 2(K) annex 1 | Anchor lights relationship of aft light to forward light in meters; Section 2(K) annex 1
* * * * * * *
USS MICHIGAN | SSGN 727 | 225° | 112.5° | 209° | 5.3 | 9.0 | 3.8 | 4.0 below.
USS GEORGIA | SSGN 729 | 225° | 112.5° | 209° | 5.3 | 9.0 | 3.8 | 4.0 below.

* * * * *

Approved: May 4, 2011.
M. Robb Hyde,
Commander, JAGC, U.S. Navy, Deputy Assistant Judge Advocate General (Admiralty and Maritime Law).

[FR Doc. 2011-11759 Filed 5-13-11; 8:45 am]

BILLING CODE 3810-FF-P